DEPARTMENT OF TRANSPORTATION

Federal Aviation Administration

14 CFR Part 39

[Docket No. 2002-NM-75-AD; Amendment 39-12686; AD 2002-06-09]

RIN 2120-AA64

Airworthiness Directives; Airbus Model A300; A300 B4-600, B4-600R, and F4-600R (Collectively Called A300-600); and A310 Series Airplanes

AGENCY: Federal Aviation Administration, DOT.

ACTION: Final rule; correction.

SUMMARY: This document corrects information in an existing airworthiness directive (AD) that applies to all Airbus Model A300; A300-600; and A310 series airplanes. That AD currently requires certain inspections of the airplane (including the vertical stabilizer, horizontal stabilizer, pylons, wing, and fuselage areas) following an in-flight incident resulting in extreme lateral loading. This document clarifies and corrects the information contact in the reporting requirement specified in paragraphs (b)(2) and (c)(2) of that AD. This correction is necessary to ensure that future reports are submitted to a specific point of contact.

DATES: Effective April 8, 2002.

FOR FURTHER INFORMATION CONTACT: Tim Backman, Aerospace Engineer, ANM-116, International Branch, FAA, Transport Airplane Directorate, 1601 Lind Avenue, SW., Renton, Washington 98055-4056; telephone (425) 227-2797; fax (425) 227-1149.

SUPPLEMENTARY INFORMATION: On March 15, 2002, the Federal Aviation Administration (FAA) issued AD 2002-06-09, amendment 39-12686 (67 FR 13259, March 22, 2002), which applies to all Airbus Model A300; A300-600; and A310 series airplanes. That AD requires certain inspections of the airplane (including the vertical stabilizer, horizontal stabilizer, pylons, wing, and fuselage areas) following an in-flight incident resulting in extreme lateral loading. The actions required by that AD are intended to detect and correct reduced structural integrity of the airplane following any future event.

Need for the Correction

Information obtained recently from Airbus Industrie indicates that a specific point of contact should be included for the reporting requirement submissions in that AD.

The FAA has determined that a correction to AD 2002-06-09 is necessary. The correction will replace the reference to AI/SE-D32 Technical Data and Documentation Services and the fax number for that office, as specified in paragraphs (b)(2) and (c)(2) of that AD, with the point of contact Jacques Leborgne and the fax number for that contact.

Correction of Publication

This document corrects the error and correctly adds the AD as an amendment to section 39.13 of the Federal Aviation Regulations (14 CFR 39.13).

The AD is reprinted in its entirety for the convenience of affected operators. The effective date of the AD remains April 8, 2002.

Since this action only adds a point of contact, it has no adverse economic impact and imposes no additional burden on any person. Therefore, the FAA has determined that notice and public procedures are unnecessary.

List of Subjects in 14 CFR Part 39

Air transportation, Aircraft, Aviation safety, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. Section 39.13 is amended by correctly adding the following airworthiness directive (AD):

2002-06-09 Airbus Industrie: Amendment 39-12686. Docket 2002-NM-75-AD.

Applicability: All Model A300; A300 B4-600, B4-600R, and F4-600R (collectively called A300-600); and A310 series airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously.

To detect and correct reduced structural integrity of the airplane following an extreme lateral loading event, accomplish the following:

Lateral Load Factor Determination

(a) As of the effective date of this AD, before further flight following an in-flight incident that results in extreme lateral loading, determine whether the lateral load factor (Ny) equaled or exceeded 0.3g. Extreme lateral loading can occur as a consequence of severe turbulence, loss of control of the aircraft involving yaw and/or roll maneuvers, hazardous systems failures, or other rare flight conditions. Then do the inspections specified in paragraph (b) or (c) of this AD, as applicable, at the time specified.

Note 2: Acceptable methods for determining if the lateral load factor equaled or exceeded 0.3g include but are not limited to: Aircraft Communication Addressing and Reporting System (ACARS), Digital Flight Data Recorder (DFDR) readout, or Quick Access Recorder (QAR). A pilot report of extreme lateral acceleration in-flight can be used to assess whether one of the previous methods should be used to determine the lateral load factor.

Note 3: The inspections specified in paragraphs (b) and (c) of this AD are not necessary if lateral load factors exceed 0.3g when the airplane is on the ground (landing, taxiing).

Inspections for Certain Lateral Load Factors

(b) For airplanes on which the lateral load factor (Ny) is greater than or equal to 0.3g, but less than 0.35g, accomplish the following actions:

(1) Before further flight, do the detailed inspections specified in paragraph (d) of this AD.

Reporting Requirement

(2) Within 5 days after accomplishing the inspections required by paragraph (b)(1) of this AD: Submit a report to Airbus, including the DFDR recording (or equivalent) of the portion of the flight when the extreme lateral loading event occurred, and other relevant information necessary to fully describe the event and develop the actual loads, including but not limited to, airplane weight, weather, and flight crew report. Submit a report of the inspection results (both positive and negative findings) to Jacques Leborgne, Airbus Industrie Customer Services Directorate, 1 Rond Point Maurice Bellonte, 31707 Blagnac Cedex France; fax (+33) 5 61 93 36 14. Information collection requirements contained in this regulation have been approved by the Office of Management and Budget (OMB) under the provisions of the Paperwork Reduction Act of 1980 (44 U.S.C. 3501 et seq.) and have been assigned OMB Control Number 2120-0056.

Note 4: Following accomplishment of the requirements of paragraphs (b)(1), (b)(2) and, if necessary, (e) of this AD, the airplane may be returned to service before accomplishing the inspections required by paragraph (b)(3) of this AD.

Supplementary Inspections

(3) The manufacturer will develop an airplane loads assessment and recommend, if necessary, supplementary inspections of the applicable areas of the airplane (including the vertical stabilizer, horizontal stabilizer pylons, wing, and fuselage areas). Within 30 days after the extreme lateral loading event, do the supplementary inspections of the airplane according to a method approved by the Manager, International Branch, ANM-116, FAA, Transport Airplane Directorate.

Note 5: The loads assessment, and if necessary, supplementary inspections required by paragraph (b)(3) of this AD, will be developed and proposed by the manufacturer based on the manufacturer's analysis of the report required by paragraph (b)(2) of this AD.

Inspections for Certain Other Lateral Load Factors

(c) For airplanes on which the lateral load factor (Ny) is greater than or equal to 0.35g, accomplish the following:

(1) Before further flight, do the detailed inspections specified in paragraph (d) of this AD.

Reporting Requirement

(2) Before further flight after accomplishing the inspections required by paragraph (c)(1) of this AD: Submit a report to Airbus, including the DFDR recording (or equivalent) of the portion of the flight when the extreme lateral loading event occurred, and other relevant information necessary to fully describe the event and develop the actual loads, including but not limited to, airplane weight, weather, and flight crew report. Submit a report of the inspection results (both positive and negative findings) to Jacques Leborgne, Airbus Industrie Customer Services Directorate, 1 Rond Point Maurice Bellonte, 31707 Blagnac Cedex France; fax (+33) 5 61 93 36 14. Information collection requirements contained in this regulation have been approved by the Office of Management and Budget (OMB) under the provisions of the Paperwork Reduction Act of 1980 (44 U.S.C. 3501 et seq.) and have been assigned OMB Control Number 2120-0056.

Supplementary Inspections

(3) The manufacturer will develop an airplane loads assessment and recommend, if necessary, supplementary inspections of the applicable areas of the airplane (including the vertical stabilizer, horizontal stabilizer pylons, wing, and fuselage areas). Before further flight, do the supplementary inspections of the airplane according to a method approved by the Manager, International Branch, ANM-116, FAA, Transport Airplane Directorate.

Note 6: The loads assessment, and if necessary, supplementary inspections required by paragraph (c)(3) of this AD, will be developed and proposed by the manufacturer based on the manufacturer's analysis of the report required by paragraph (c)(2) of this AD.

Detailed Inspections

(d) Do the following detailed inspections at the time specified in paragraph (b)(1) or (c)(1) of this AD, as applicable.

(1) Do the inspections as specified in and per Chapter 05-51-17 (Inspections After Flight in Excessive Turbulence or In Excess of VMO/MMO) of Airbus A300, A300-600 or A310 Airplane Maintenance Manual (AMM), as applicable. Extend the areas for these inspections as specified in paragraphs (d)(1)(i) and (d)(1)(ii) of this AD.

(i) Extend the wing inspection area to include rib 22 through rib 29.

(ii) Extend the fuselage inspection area from the inside to include frame 84 through 87 above stringer 23, and all areas of frame 91.

(2) Do detailed inspections to find damage of the areas specified in paragraphs (d)(2)(i), (d)(2)(ii), and (d)(2)(iii) of this AD, according to a method approved by the Manager, International Branch, ANM-116.

(i) Inspect the fuselage external surface under the vertical stabilizer to fuselage fairing, including side load fittings and lower surface of rib 1 of the vertical stabilizer.

(ii) Inspect the rudder hinge arms and support fittings 1 through 7, and the actuator support fittings of the vertical stabilizer.

(iii) Inspect the rudder hinge fittings 1 through 7, and the actuator support fittings of the vertical stabilizer.

Note 7: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Corrective Actions

(e) If any damage is found during any inspection required by this AD: Before further flight, repair according to the method specified in the Airbus structural repair manual or according to a method approved by the Manager, International Branch, ANM-116, or by the Direction Générale de l'Aviation Civile or its delegated agent.

Alternative Methods of Compliance

(f) An alternative method of compliance or adjustment of the compliance time that provides an acceptable level of safety may be used if approved by the Manager, International Branch, ANM-116. Operators shall submit their requests through an appropriate FAA Principal Maintenance Inspector, which may add comments and then send it to the Manager, International Branch, ANM-116.

Note 8: Information concerning the existence of approved alternative methods of compliance with this AD, if any, may be obtained from the International Branch, ANM-116.

Special Flight Permits

(g) Special flight permits may be issued in accordance with §§ 21.197 and 21.199 of the Federal Aviation Regulations (14 CFR 21.197 and 21.199) to operate the airplane to a location where the requirements of this AD can be accomplished.

Effective Date

(h) The effective date of this amendment remains April 8, 2002.

Issued in Renton, Washington, on July 29, 2002.
Vi Lipski,
Manager, Transport Airplane Directorate, Aircraft Certification Service.

[FR Doc. 02-20019 Filed 8-7-02; 8:45 am]

BILLING CODE 4910-13-P